ENVIRONMENTAL PROTECTION AGENCY

[FRL-7373-7]

Access to Confidential Business Information by Enrollees Under the Senior Environmental Employment Program

AGENCY: Environmental Protection Agency (EPA).

ACTION: Notice.

SUMMARY: EPA has authorized grantee organizations under the Senior Environmental Employment (SEE) Program, and their enrollees; access to information which has been submitted to EPA under the environmental statutes administered by the Agency. Some of this information may be claimed or determined to be confidential business information (CBI).

DATES: Comments concerning CBI access will be accepted on or before September 16, 2002.

ADDRESSES: Comments should be submitted to: Susan Street, National Program Director, Senior Environmental Employment Program (MC 3650A), U.S. Environmental Protection Agency; Ariel Rios Building, 1200 Pennsylvania Ave., NW., Washington, DC 20460. (Telephone (202) 564-0410).

SUPPLEMENTARY INFORMATION: The Senior Environmental Employment (SEE) program is authorized by the Environmental Programs Assistance Act of 1984 (Pub. L. 98-313), which provides that the Administrator may “make grants or enter into cooperative agreements” for the purpose of “providing technical assistance to: Federal, State, and local environmental agencies for projects of pollution prevention, abatement, and control.” Cooperative agreements under the SEE program provide support for many functions in the Agency, including clerical support, staffing hot lines, providing support to Agency enforcement activities, providing library services, compiling data, and support in scientific, engineering, financial, and other areas.

In performing these tasks, grantees and cooperators under the SEE program and their enrollees may have access to potentially all documents submitted under the Resource Conservation and Recovery Act, Clean Air Act, Clean Water Act, Safe Drinking Water Act, Federal Insecticide, Fungicide and Rodenticide Act, and Comprehensive Environmental Response, Compensation, and Liability Act, to the extent that these statutes allow disclosure of confidential information to authorized representatives of the United States (or to “contractors” under the Federal Insecticide, Fungicide, and Rodenticide Act). Some of these documents may contain information claimed as confidential.

EPA provides confidential information to enrollees working under the following cooperative agreements:

Cooperative agreement No. | Organization
National Association for Hispanic Elderly
CQ-830339 | NAHE
National Asian Pacific Center on Aging
CQ-828126 | NAPCA
National Caucus and Center on Black Aged, Inc.
CQ-829752 | NCBA
CQ-829753 | NCBA
CQ-829754 | NCBA
CQ-829755 | NCBA
CQ-829756 | NCBA
CQ-829757 | NCBA
National Council On the Aging, Inc.
CQ-828243 | NCOA
CQ-829502 | NCOA
CQ-829575 | NCOA
CQ-829652 | NCOA
CQ-829685 | NCOA
National Senior Citizens Education and Research Center
CQ-829684 | NSCERC
CQ-830383 | NSCERC

Among the procedures established by EPA confidentiality regulations for granting access is notification to the submitters of confidential data that SEE grantee organizations and their enrollees will have access. 40 CFR 2.201(h)(2)(iii). This document is intended to fulfill that requirement.

The grantee organizations are required by the cooperative agreements to protect confidential information. SEE enrollees are required to sign confidentiality agreements and to adhere to the same security procedures as Federal employees.

Dated: September 4, 2002.
Donald W. Sadler,
Director, Human Resources Staff #1.

[FR Doc. 02-22987 Filed 9-9-02; 8:45 am]

BILLING CODE 6560-50-P